DEPARTMENT OF AGRICULTURE

Forest Service

Forest Resource Coordinating Committee; Meeting

AGENCY: Forest Service, USDA.

ACTION: Notice of meeting; Correction.

SUMMARY: The Forest Service published a document in the Federal Register of June 6, 2013, concerning a notice of meeting containing an incorrect teleconference line.

FOR FURTHER INFORMATION CONTACT: Maya Solomon, Forest Resource Coordinating Committee Program Coordinator, 202-205-1376 or Ted Beauvais, Designated Federal Officer, 202-205-1190.

Correction

In the Federal Register of June 6, 2013, in FR Doc. 2013-13453, on page 34035, in the first column, correct the “Call-in information” under the Addresses caption to read:

The meetings will be held via teleconference that interested public participants will be able to access via the following call-in information: 1-888-858-2144 Access Code: 7039194#.

Dated: June 10, 2013.
Paul Ries,
Associate Deputy Chief, State & Private Forestry.

[FR Doc. 2013-14949 Filed 6-21-13; 8:45 am]

BILLING CODE 3410-11-P